DEPARTMENT OF AGRICULTURE

Agricultural Marketing Service

[Docket No. DA-00-09]

United States Standards for Grades of Nonfat Dry Milk (Spray Process), United States Standards for Instant Nonfat Dry Milk and United States Standards for Grades of Dry Buttermilk and Dry Buttermilk Product

AGENCY: Agricultural Marketing Service, USDA.

ACTION: Notice.

SUMMARY: The Agricultural Marketing Service (AMS) of the U.S. Department of Agriculture (USDA) is soliciting comments on proposals to revise the United States Standards for Grades of Nonfat Dry Milk (Spray Process), the United States Standards for Instant Nonfat Dry Milk, and the United States Standards for Grades of Dry Buttermilk and Dry Buttermilk Product. Proposed revisions would reduce the Standard Plate Count (bacterial estimates) for U.S. Extra Grade nonfat dry milk (spray process) and instant nonfat dry milk to a maximum of 10,000 per gram, for U.S. Extra Grade dry buttermilk and dry buttermilk product to a maximum of 20,000 per gram, and for U.S. Standard Grade dry buttermilk and dry buttermilk product to a maximum of 75,000 per gram.

DATES: Comments must be submitted on or before November 7, 2000.

ADDRESSES: Written comments may be submitted to Duane R. Spomer, Chief, Dairy Standardization Branch, Dairy Programs, Agricultural Marketing Service, U.S. Department of Agriculture, Room 2746 South Building, Stop 0230, P.O. Box 96456, Washington, DC 20090-6456; faxed to (202) 720-2643; or e-mailed to Duane.Spomer@usda.gov. Comments should reference the date and page number of this issue of the Federal Register. All comments received will be made available for public inspection at the above address during regular business hours.

The current United States Standards, along with proposed changes, are available either through the above addresses or by accessing AMS' Home Page on the Internet at www.ams.usda.gov/dairystand.htm.

FOR FURTHER INFORMATION CONTACT: Duane R. Spomer, Chief, Dairy Standardization Branch, AMS/USDA/Dairy Programs, Room 2746 South Building, P.O. Box 96456, Washington, DC 20090-6456, telephone (202) 720-7473.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices * * *.” AMS is committed to carrying out this authority in a manner that facilitates the marketing of agricultural commodities and will make copies of official standards available upon request. The United States Standards for Grades of Nonfat Dry Milk (Spray Process), the United States Standards for Instant Nonfat Dry Milk, and the United States Standards for Grades of Dry Buttermilk and Dry Buttermilk Product no longer appear in the Code of Federal Regulations but are maintained by USDA/AMS/Dairy Programs.

When these products are officially graded, the USDA regulations (7 CFR Part 58) governing the grading of manufactured or processed dairy products are used. These regulations require a charge for the grading service provided by USDA.

AMS is proposing to change the United States Standards for Grades of Nonfat Dry Milk (Spray Process), the United States Standards for Instant Nonfat Dry Milk, and the United States Standards for Grades of Dry Buttermilk and Dry Buttermilk Products using the procedures that appear in Part 36 of Title 7 of the Code of Federal Regulations (7 CFR Part 36).

AMS also administers a voluntary grading program for dry milk products under the Agricultural Marketing Act of 1946. Any interested person, commercial firm, or government agency can, for a fee, have AMS verify that the dry milk products covered by these standards meet the requirements of the applicable U.S. standards. Dry milk products covered by these standards can be packaged into containers bearing the USDA grade shield. The grading program is implemented by the regulation in 7 CFR Part 58.

The United States Standards for Grades of Nonfat Dry Milk (Spray Process) have been in effect since May 22, 1996, the United States Standards for Instant Nonfat Dry Milk have been in effect since August 7, 1996, and the United States Standards for Grades of Dry Buttermilk and Dry Buttermilk Product have been in effect since August 23, 1991. AMS initiated these proposed changes following a suggestion by the American Dairy Products Institute (ADPI), a trade association representing the dry milk industry. ADPI requested that the maximum number of bacteria allowed in nonfat dry milk, instant nonfat dry milk, dry buttermilk and dry buttermilk product be reduced. ADPI suggests that these changes would enhance the competitiveness of U.S. dry milk products in international markets since several other exporting countries have bacterial requirements more stringent than current U.S. standards. By reducing the bacterial requirements, the U.S. dry milk industry will be more competitive in international markets. Additionally, the standards would reflect improvements that have occurred in the quality of dry milk products produced in the United States.

Proposed by Dairy Programs, Agricultural Marketing Service:

USDA proposes to lower the maximum bacterial content requirement for the specified product grade standards, as suggested by the American Dairy Products Institute, as follows:

Current standard plate count | Proposed standard plate count
United States Standards for Grades of Nonfat Dry Milk (Spray Process)
Extra Grade: 40,000/g | Extra Grade: 10,000/g.
United States Standards for Instant Nonfat Dry Milk
Extra Grade: 30,000/g | Extra Grade: 10,000/g.
United States Standards for Grades of Dry Buttermilk and Dry Buttermilk Product
Extra Grade: 50,000/g | Extra Grade: 20,000/g.
Standard Grade: 200,000/g | Standard Grade: 75,000/g.

This notice provides a 60-day comment period for interested parties to comment on proposed revisions to the standards.

Authority: (7 U.S.C. 1621-1627).

Dated: September 1, 2000.
Kathleen A. Merrigan,
Administrator, Agricultural Marketing Service.

[FR Doc. 00-23024 Filed 9-7-00; 8:45 am]

BILLING CODE 3410-02-P